FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 12054N.

Name: Crown Containers, Inc.

Address: 601 West Carob Street, Compton, CA 90220.

Date Revoked: October 3, 2003.

Reason: Failed to maintain a valid bond.

License Number: 1477F.

Name: Freight Brokers International, Inc.

Address: 201 Meadow Road, Edison, NJ 08817.

Date Revoked: September 23, 2003.

Reason: Surrendered license voluntarily.

License Number: 1304F.

Name: Marina Shipping Co., Inc.

Address: 2860 Walnut Avenue, Signal Hill, CA 90806.

Date Revoked: October 3, 2003.

Reason: Failed to maintain a valid bond.

License Number: 13266F.

Name: Trans—Aero—Mar, Inc.

Address: 1203 NW. 93rd Ct., Miami, FL 33172.

Date Revoked: September 17, 2003.

Reason: Failed to maintain a valid bond.

Sandra L. Kusumoto,
Director, Bureau of Consumer Complaints and Licensing.

[FR Doc. 03-27314 Filed 10-29-03; 8:45 am]

BILLING CODE 6730-01-P